DEPARTMENT OF THE INTERIOR

National Park Service

[NPS-WASO-NAGPRA-20962; PPWOCRADN0-PCU00RP14.R50000]

Notice of Inventory Completion: University of California, Davis, Davis, CA

AGENCY: National Park Service, Interior.

ACTION: Notice.

SUMMARY: The University of California, Davis (UC Davis), has completed an inventory of human remains housed in the UC Davis Museum of Wildlife and Fish Biology, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to UC Davis. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to UC Davis at the address in this notice by June 10, 2016.

ADDRESSES: Megon Noble, NAGPRA Project Manager, University of California, Davis, 433 Mrak Hall, One Shields Avenue, Davis, CA 95616, telephone (530) 752-8501, email mnoble@ucdavis.edu.

SUPPLEMENTARY INFORMATION: Notice is here given in accordance with the Native American Graves Protection and Repatriation Act (NAGPRA), 25 U.S.C. 3003, of the completion of an inventory of human remains under the control of the UC Davis, Davis, CA. The human remains were removed from Yolo County, CA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by UC Davis professional staff in consultation with representatives of the Cachil DeHe Band of Wintun Indians of the Colusa Indian Community of the Colusa Rancheria, California; Cortina Indian Rancheria (previously listed as the Cortina Indian Rancheria of Wintun Indians of California); and the Yocha Dehe Wintun Nation, California (previously listed as the Rumsey Indian Rancheria of Wintun Indians of California).

History and Description of the Remains

Sometime before 1940, human remains representing, at minimum, three individuals were removed from site CA-YOL-118 in downtown Davis in Yolo County, CA. The human remains were collected by F.M. Hayes, and later donated by Mrs. F. Griffin to the UC Davis Zoology Department. The Zoology Department later became part of the College of Biological Sciences. The collections of the College of Biological Sciences were later transferred to the UC Davis Museum of Wildlife and Fish Biology within the Department of Wildlife, Fish, and Conservation Biology. No known individuals were identified. No associated funerary objects are present.

The human remains have been determined to be Native American based on dental wear patterns and the archeological context of the site. The human remains were not removed as a part of a systematic excavation; however, multiple subsequent archeological excavations at site CA-YOL-118 and surrounding sites yielded relevant information. The human remains are reasonably believed to date to Phase 2 of the Late Period (A.D. 1520-1770) or to the later Historic/Mission Period based on the presence of temporally diagnostic artifacts including clam shell disc beads, glass beads, and Olivella H series beads, as well as radiocarbon dating. Archeological and linguistic models suggest individuals of southern Wintun or Patwin descent were present at site CA-YOL-118 during the Late and Historic Periods. The human remains described in this Notice are determined to be culturally affiliated with southern Wintun or Patwin, represented by the present day Cachil DeHe Band of Wintun Indians of the Colusa Indian Community of the Colusa Rancheria, California; Cortina Indian Rancheria (previously listed as the Cortina Indian Rancheria of Wintun Indians of California); and the Yocha DeHe Wintun Nation, California (previously listed as the Rumsey Indian Rancheria of Wintun Indians of California).

Determinations Made by the University of California, Davis

Officials of the University of California, Davis have determined that:

• Pursuant to 25 U.S.C. 3001(9), the human remains described in this notice represent the physical remains of three individuals of Native American ancestry.

• Pursuant to 25 U.S.C. 3001(2), there is a relationship of shared group identity that can be reasonably traced between the Native American human remains and the Cachil DeHe Band of Wintun Indians of the Colusa Indian Community of the Colusa Rancheria, California; Cortina Indian Rancheria (previously listed as the Cortina Indian Rancheria of Wintun Indians of California); and the Yocha DeHe Wintun Nation, California (previously listed as the Rumsey Indian Rancheria of Wintun Indians of California).

Additional Requestors and Disposition

Lineal descendants or representatives of any Indian tribe or Native Hawaiian organization not identified in this notice that wish to request transfer of control of these human remains should submit a written request with information in support of the request to Megon Noble, NAGPRA Project Manager, University of California, Davis, 433 Mrak Hall, One Shields Avenue, Davis, CA 95616, telephone (530) 752-8501, email mnoble@ucdavis.edu, by June 10, 2016. After that date, if no additional requestors have come forward, transfer of control of the human remains to the Cachil DeHe Band of Wintun Indians of the Colusa Indian Community of the Colusa Rancheria, California; Cortina Indian Rancheria (previously listed as the Cortina Indian Rancheria of Wintun Indians of California); and the Yocha DeHe Wintun Nation, California (previously listed as the Rumsey Indian Rancheria of Wintun Indians of California) may proceed.

UC Davis is responsible for notifying Cachil DeHe Band of Wintun Indians of the Colusa Indian Community of the Colusa Rancheria, California; Cortina Indian Rancheria (previously listed as the Cortina Indian Rancheria of Wintun Indians of California); and the Yocha Dehe Wintun Nation, California (previously listed as the Rumsey Indian Rancheria of Wintun Indians of California) that this notice has been published.

Dated: April 27, 2016.
Melanie O'Brien,
Manager, National NAGPRA Program.

[FR Doc. 2016-11092 Filed 5-10-16; 8:45 am]

BILLING CODE 4312-50-P